DEPARTMENT OF ENERGY

[Number DE-PS36-03GO93003]

First Steps Toward Developing Renewable Energy and Energy Efficiency on Tribal Lands: Strategic and Energy Resource Planning, Capacity Building, and Organizational Development

AGENCY: Golden Field Office, Department of Energy.

ACTION: Notice of issuance of solicitation for financial assistance applications.

SUMMARY: The U.S. Department of Energy (DOE), pursuant to the DOE Financial Assistance rules, 10 CFR 600.8, is soliciting applications for financial assistance from Federally-recognized Tribes or Alaskan Native Corporations for strategic planning, energy options analysis or resource planning, human capacity building, and organizational development related to sustainable energy efficiency implementation or renewable energy development.

DATES: Issuance of the solicitation is planned for early March 2003.

ADDRESSES: To obtain a copy of the solicitation, once issued, interested parties should access the DOE Golden Field Office home page at http://www.golden.doe.gov/businessopportunities.html, click on “Solicitations,” and then access the solicitation number identified above. The DOE Golden Field Office home page will provide a link to the solicitation synopsis in the Industry Interactive Procurement System (IIPS) Web site and provides instructions on using IIPS. The solicitation will be available directly through IIPS at http://e-center.doe.gov by browsing opportunities by Contract Activity, for those solicitations issued by the Golden Field Office. To be notified when the solicitation is issued, join the Solicitation Mailing List specific to this notice through IIPS. DOE will not issue paper copies of the solicitation. For questions regarding the operation of IIPS, contact the IIPS Help Desk at IIPS_HelpDesk@e-center.doe.gov or at (800) 683-0751.

FOR FURTHER INFORMATION CONTACT: Tammie Lawler, Contract Specialist, via facsimile at 303-275-4788 or electronically at tribalgo93003@go.doe.gov. Responses to questions will be made by amendment to the solicitation and posted on the DOE Industry Interactive Procurement System (IIPS) Web site.

SUPPLEMENTARY INFORMATION: DOE's Tribal Energy Program promotes tribal energy self-sufficiency and fosters employment and economic development on tribal lands through financial assistance to Federally-recognized Tribes and Alaskan Native Corporations. Under this solicitation, DOE is soliciting applications from Federally-recognized Tribes or Alaskan Native Corporations (hereafter referred to as “tribes”) for strategic planning, energy options analysis or resource planning, human capacity building, and organizational development related to sustainable energy efficiency implementation or renewable energy development.

DOE will only consider applications from Federally-recognized tribes on whose tribal lands the project will be located. Applications from a consortium will be accepted but must be submitted by a single tribe representing the consortium. A Statement of Commitment from an authorized representative of the tribe (Chief, Governor, President, Chairperson or other representative authorized to commit the tribe), that includes a Statement of Commitment from each participant, will be required as a part of the application.

Awards under this solicitation are anticipated to be grants with terms of one year. Subject to funding availability, the total DOE funding available under this solicitation will be between $500,000 and $1,000,000. DOE anticipates selecting 5 to 20 applications for negotiation toward award. No cost share is required in order to be considered for awards under this solicitation. Solicitation number DE-PS36-03GO93003 will include complete information including technical aspects, funding, application preparation instructions, evaluation criteria, and other factors that will be considered when selecting applications for funding. Issuance of the solicitation is planned for early March 2003, with applications due approximately 50 days after the solicitation has been issued. Information on Financial Assistance Regulations (10 CFR part 600), proposal forms, award format, or post award forms can be obtained through the DOE Golden Field Office Home Page http://www.golden.doe.gov/businessopportunities.html.

Issued in Golden, Colorado, on March 11, 2003.
Jerry L. Zimmer,
Director, Office of Acquisition and Financial Assistance.

[FR Doc. 03-7518 Filed 3-27-03; 8:45 am]

BILLING CODE 6450-01-P